DEPARTMENT OF TRANSPORTATION

Federal Aviation Administration

14 CFR Part 39

[Docket No. 2002-NM-11-AD; Amendment 39-13459; AD 2004-03-15]

RIN 2120-AA64

Airworthiness Directives; Bombardier Model DHC-8-102, -103, -106, -201, -202 -301, -311, and -315 Airplanes

AGENCY: Federal Aviation Administration, DOT.

ACTION: Final rule.

SUMMARY: This amendment supersedes an existing airworthiness directive (AD), applicable to certain Bombardier Model DHC-8-102, -103, -106, -201, -202, -301, -311, and -315 airplanes, that currently requires a one-time inspection to detect chafing of electrical wires in the cable trough below the cabin floor; repair, if necessary; installation of additional tie-mounts and tie-wraps; and application of sealant to rivet heads. This amendment requires adding an additional modification of the electrical wires in certain sections. The actions specified by this AD are intended to prevent chafing of electrical wires, which could result in an uncommanded shutdown of an engine during flight. This action is intended to address the identified unsafe condition.

DATES: Effective March 19, 2004.

The incorporation by reference of a certain publication, as listed in the regulations, is approved by the Director of the Federal Register as of March 19, 2004.

The incorporation by reference of a certain other publication, as listed in the regulations, was approved previously by the Director of the Federal Register as of October 27, 1998 (63 FR 50501), September 22, 1998).

ADDRESSES: The service information referenced in this AD may be obtained from Bombardier, Inc., Bombardier Regional Aircraft Division, 123 Garratt Boulevard, Downsview, Ontario M3K 1Y5, Canada. This information may be examined at the Federal Aviation Administration (FAA), Transport Airplane Directorate, Rules Docket, 1601 Lind Avenue, SW., Renton, Washington; or at the FAA, New York Aircraft Certification Office, 1600 Stewart Avenue, Westbury, New York; or at the Office of the Federal Register, 800 North Capitol Street, NW., suite 700, Washington, DC.

FOR FURTHER INFORMATION CONTACT: Douglas G. Wagner, Aerospace Engineer, Systems and Flight Test Branch, ANE-172, FAA, New York Aircraft Certification Office, 1600 Stewart Avenue, Westbury, New York, New York 11581; telephone (516) 228-7306; fax (516) 794-5531.

SUPPLEMENTARY INFORMATION: A proposal to amend part 39 of the Federal Aviation Regulations (14 CFR part 39) by superseding AD 99-21-09, amendment 39-11352 (64 FR 54199, October 6, 1999), which is applicable to certain Bombardier Model DHC-8-102, -103, -106, -201, -202, -301, -311, and -315 airplanes, was published in the Federal Register on October 20, 2003 (68 FR 59892). The action proposed to continue to require a one-time inspection to detect chafing of electrical wires in the cable trough below the cabin floor; repair, if necessary; installation of additional tie-mounts and tie-wraps; and application of sealant to rivet heads. The action also proposed to add an additional modification of the electrical wires in certain sections.

Comment

Interested persons have been afforded an opportunity to participate in the making of this amendment. Due consideration has been given to the single comment received.

The commenter notes that the proposed AD specifies accomplishment of the modification (including a general visual inspection and any applicable repair) per Part III, paragraphs 1 through 9 and 12 through 20, of the Accomplishment Instructions of Bombardier Service Bulletin 8-53-80, Revision A, dated July 25, 2000. The commenter states that operators may have already accomplished the actions per the original issue of the service bulletin (Bombardier Service Bulletin 8-53-80, dated December 22, 1999). The commenter adds that the only difference between the original issue and Revision A is that the number of work hours was not specified in the original issue. The commenter asks that the proposed AD be changed to give credit for using the original issue of the service bulletin. We agree with the commenter and have changed this final rule accordingly.

Conclusion

After careful review of the available data, including the comment noted above, we have determined that air safety and the public interest require the adoption of the rule with the change previously described. We have determined that this change will neither increase the economic burden on any operator nor increase the scope of the AD.

Cost Impact

There are approximately 173 airplanes of U.S. registry that will be affected by this AD.

The actions that are currently required by AD 99-21-09 take between 80 and 100 work hours per airplane (depending on the airplane model) to accomplish, at an average labor rate of $65 per work hour. Required parts are provided by the manufacturer at no cost to the operator. Based on these figures, the cost impact of the currently required actions is estimated to be between $5,200 and $6,500 per airplane.

The additional modification that is required in this AD action will take about 10 work hours per airplane to accomplish, at an average labor rate of $65 per work hour. Required parts will be provided by the manufacturer at no cost to the operator. Based on these figures, the cost impact of the required modification on U.S. operators is estimated to be $112,450, or $650 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11352 (64 FR 54199, October 6, 1999), and by adding a new airworthiness directive (AD), amendment 39-13459, to read as follows:

2004-03-15 Bombardier, Inc. (Formerly de Havilland, Inc.): Amendment 39-13459. Docket 2002-NM-11-AD. Supersedes AD 99-21-09, Amendment 39-11352.

Applicability: Model DHC-8-102, -103, -106, -201, -202, -301, -311, and -315 airplanes; serial numbers 3 through 540 inclusive, excluding serial number 462; certificated in any category.

Compliance: Required as indicated, unless accomplished previously.

To prevent chafing of electrical wires, which could result in an uncommanded shutdown of an engine during flight, accomplish the following:

Restatement of Requirements of AD 99-21-09

One-Time Inspection, Corrective Action, and Modification

(a) Perform a one-time general visual inspection to detect chafing of electrical wires in the cable trough below the cabin floor; install additional tie-mounts and tie-wraps; and apply sealant to rivet heads (reference Bombardier Modification 8/2705); in accordance with Bombardier Service Bulletin S.B. 8-53-66, dated March 27, 1998, at the time specified in paragraph (a)(1) or (a)(2) of this AD, as applicable. If any chafing is detected during the inspection required by this paragraph, prior to further flight, repair in accordance with the service bulletin.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(1) For airplanes having serial numbers 3 through 519 inclusive, excluding serial number 462: Inspect within 36 months after October 27, 1998 (the effective date of AD 98-20-14, amendment 39-10781).

(2) For airplanes having serial numbers 520 through 540 inclusive: Inspect within 36 months after November 10, 1999 (the effective date of AD 99-21-09, amendment 39-11352, which superseded AD 98-20-14), or at the next “C” check, whichever occurs first.

New Requirements of This AD

Modification

(b) For all airplanes: Within 36 months after the effective date of this AD; modify the electrical wires in the cable trough below the cabin floor at Sections X510.00 to X580.50 (including a general visual inspection and any applicable repair) per Part III, paragraphs 1 through 9 and 12 through 20, of the Accomplishment Instructions of Bombardier Service Bulletin 8-53-80, Revision ‘A’, dated July 25, 2000. Any applicable repair must be done before further flight. Accomplishment of these actions before the effective date of this AD per Bombardier Service Bulletin 8-53-80, dated December 22, 1999, is considered acceptable for compliance with the actions required by this paragraph.

Alternative Methods of Compliance

(c) In accordance with 14 CFR 39.19, the Manager, New York Aircraft Certification Office, FAA is authorized to approve alternative methods of compliance for this AD.

Incorporation by Reference

(d) The actions shall be done in accordance with Bombardier Service Bulletin S.B. 8-53-66, dated March 27, 1998; and Bombardier Service Bulletin 8-53-80, Revision ‘A’, dated July 25, 2000; as applicable.

(1) The incorporation by reference of Bombardier Service Bulletin 8-53-80, Revision ‘A’, dated July 25, 2000; is approved by the Director of the Federal Register in accordance with 5 U.S.C. 552(a) and 1 CFR part 51.

(2) The incorporation by reference of Bombardier Service Bulletin S.B. 8-53-66, dated March 27, 1998; was approved previously by the Director of the Federal Register as of October 27, 1998 (63 FR 50501, September 22, 1998).

(3) Copies may be obtained from Bombardier, Inc., Bombardier Regional Aircraft Division, 123 Garratt Boulevard, Downsview, Ontario M3K 1Y5, Canada. Copies may be inspected at the FAA, Transport Airplane Directorate, 1601 Lind Avenue, SW., Renton, Washington; or at the FAA, New York Aircraft Certification Office, 1600 Stewart Avenue, Westbury, New York; or at the Office of the Federal Register, 800 North Capitol Street, NW., suite 700, Washington, DC.

Note 2: The subject of this AD is addressed in Canadian airworthiness directive CF-1998-08R2, dated July 10, 2000.

Effective Date

(e) This amendment becomes effective on March 19, 2004.

Issued in Renton, Washington, on January 29, 2004.
Kalene C. Yanamura,
Acting Manager, Transport Airplane Directorate, Aircraft Certification Service.

[FR Doc. 04-2576 Filed 2-12-04; 8:45 am]

BILLING CODE 4910-13-P